NATIONAL SCIENCE FOUNDATION

Committee Management; Renewal

The NSF management officials having responsibility for the Oversight Council for the International Arctic Research Center (#9535) have determined that renewing this group for another year is necessary and in the public interest in connection with the performance of duties imposed upon the Director, National Science Foundation, by 42 U.S.C. 1861 et seq. This determination follows consultation with the Committee Management Secretariat, General Service Administration.

For more information contact Susanne Bolton at (703) 292-7488.

Dated: October 18, 2002.
Susanne Bolton,
Committee Management Officer.

[FR Doc. 02-26981 Filed 10-22-02; 8:45 am]

BILLING CODE 7555-01-M